DEPARTMENT OF TRANSPORTATION

Federal Aviation Administration

[Docket Number 2025-0771]

Agency Information Collection Activities: Requests for Comments; Clearance of Renewed Approval of Information Collection: Automatic Dependent Surveillance—Broadcast (ADS-B) Out Performance Requirements To Support Air Traffic Control (ATC)

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on 23 April 2025. The collection involves Automatic Dependent Surveillance-Broadcast (ADS-B) Out equipage and subsequent maintenance post-installation recordkeeping. The information to be collected will be used to and/or is necessary for continued aircraft certification and recordkeeping.

DATES: Written comments should be submitted by 23 July 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Jamal A. Wilson by email at: jamal.wilson@faa.gov; phone: (202) 267-4301.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0728.

Title: Automatic Dependent Surveillance—Broadcast (ADS-B) Out Performance Requirements to Support Air Traffic Control (ATC).

Form Numbers: FAA Form 337.

Type of Review: Clearance of a renewal of an information collection.

Background: The Federal Register Notice with a 60-day comment period soliciting comments on the following collection of information was published on 23 April 2025 (75 FR 30193). Title 49 of the United States Code, Subtitle VII, Aviation Programs, described in detail the scope of the Federal Aviation Administration (FAA) Administrator's authority. Rulemaking for Automatic Dependent Surveillance-Broadcast (ADS-B) Out was promulgated under the authority described Subtitle VII, Part A, Subpart I, Section 40103, Sovereignty and use of the Airspace, and Subpart III, Section 44701, General requirements. Under Section 40103, the FAA is charged with prescribing regulations on: (1) the flight of aircraft, including regulations on safe altitudes; (2) the navigation, protection, and identification of aircraft; and (3) the safe and efficient use of the navigable airspace. Under Section 44701, the FAA is charged with promoting safe flight of civil aircraft in air commerce by prescribing regulations for practices, methods and procedures the Administrator finds necessary for safety in air commerce and national security.

On May 28, 2010, the FAA published the final rule entitled Automatic Dependent Surveillance-Broadcast (ADS-B) Out Performance Requirements to Support Air Traffic Control (ATC) Service.¹ As of January 2, 2020, when operating in the airspace designated in 14 CFR 91.225(a) and (d), operators must be equipped with ADS-B Out avionics that meet the performance requirements of 14 CFR 91.227. In short, ADS-B rule airspace consists of the entirety of a Class B airport's airspace and the surrounding Mode C veil, Class C airspace and the airspace above Class C up to 10,000 ft, all U.S. sovereign airspace above 10,000 ft, and all Class A airspace. Basic elements of the ADS-B Out transmission include aircraft position, velocity, and identification information. Per Appendix A of FAR Part 43, installation of ADS-B Out avionics on certificated aircraft includes the completion of a Form 337 by the maintenance personnel accomplishing or supervising the installation. This form is submitted to document major alterations to an aircraft and is received by the Aircraft Registration Branch in Oklahoma City, OK for recordkeeping. This constitutes the only collection of information related to ADS-B Out equipage, although all information collected on Form 337 and its associated burden is already covered by OMB Control 2120-0020.

¹ 75 FR 30193.

Respondents: Maintenance or inspecting personnel responsible for ADS-B installation on an aircraft.

Frequency: N/A.

Estimated Average Burden per Response: 15 minutes per installation.

Estimated Total Annual Burden: Dependent on number of ADS-B installations conducted in a given period.

Issued in Washington, DC, on 23 June 2025.
Jamal Abdul Wilson,
Project Manager, AJM-42, ADS-B Program Office, PMO Surveillance Services, Air Traffic Organization, FAA.

[FR Doc. 2025-11673 Filed 6-24-25; 8:45 am]

BILLING CODE 4910-13-P